DEPARTMENT OF TRANSPORTATION

Office of the Secretary

Aviation Proceedings, Agreements filed the Week Ending February 29, 2008

The following Agreements were filed with the Department of Transportation under the provisions of 49 U.S.C. Sections 412 and 414. Answers may be filed within 21 days after the filing of the application.

Docket Number DOT-OST-2006-26409.

Date Filed February 29, 2008.

Parties Members of the International Air Transport Association.

Subject TC23 Middle East, Africa—South West Pacific, Flex Fares Package, Expedited Resolutions, (Memo 0364/0366). Intended effective date: 1 July 2008.

Docket Number DOT-OST-2008-0077.

Date Filed February 29, 2008.

Parties Members of the International Air Transport Association.

Subject TC23 Middle East, Africa-South West Pacific, Expedited Composite Resoultions (Memo 0367/0365), Intended effective date: 1 July 2008.

Docket Number DOT-OST-2008-0078.

Date Filed February 29, 2008.

Parties Members of the International Air Transport Association,

Subject TC2 Within Africa, Resolutions and Specified Fares Tables (Memo 0180). Intended effective date: 1 May 2008.

Docket Number DOT-OST-2008-0079.

Date Filed February 29, 2008.

Parties Members of the International Air Transport Association.

Subject TC2 Within Middle East, Expedited Resolution 002dk and Specified Fares Tables (Memo 0182). Intended effective date: 1 May 2008.

Renee V. Wright,
Acting Program Manager, Docket Operations, Alternate Federal Register Liaison.

[FR Doc. E8-13359 Filed 6-12-08; 8:45 am]

BILLING CODE 4910-9X-P